DEPARTMENT OF LABOR

Employment and Training Administration

[TA-W-70,107]

International Brotherhood of Electrical Workers Local Union 567, Lewiston, ME; Notice of Termination of Investigation

Pursuant to Section 223 of the Trade Act of 1974, as amended, an investigation was initiated on May 19, 2009, in response to a worker petition filed by the State of Maine Workforce Office on behalf of workers of the International Brotherhood of Electrical Workers, Local Union 567, Lewiston, Maine.

The petitioner requested that this petition be withdrawn. Consequently, further investigation in this case would serve no purpose, and the investigation under this petition has been terminated.

Signed at Washington, DC, this 29th day of June 2009.
Richard Church,
Certifying Officer, Division of Trade Adjustment Assistance.

[FR Doc. E9-18043 Filed 7-28-09; 8:45 am]

BILLING CODE 4510-FN-P